DEPARTMENT OF THE TREASURY

Agency Information Collection Activities; Submission for OMB Review; Comment Request; Multiple Internal Revenue Service (IRS) Information Collection Requests

AGENCY: Departmental Offices, U.S. Department of the Treasury.

ACTION: Notice.

SUMMARY: The Department of the Treasury will submit the following information collection requests to the Office of Management and Budget (OMB) for review and clearance in accordance with the Paperwork Reduction Act of 1995, on or after the date of publication of this notice. The public is invited to submit comments on these requests.

DATES: Comments should be received on or before October 20, 2023 to be assured of consideration.

ADDRESSES: Written comments and recommendations for the proposed information collection should be sent within 30 days of publication of this notice to www.reginfo.gov/public/do/PRAMain. Find this particular information collection by selecting “Currently under 30-day Review—Open for Public Comments” or by using the search function.

FOR FURTHER INFORMATION CONTACT: Copies of the submissions may be obtained from Melody Braswell by emailing PRA@treasury.gov, calling (202) 622-1035, or viewing the entire information collection request at www.reginfo.gov.

SUPPLEMENTARY INFORMATION:

Internal Revenue Service (IRS)

1. Title: Form W-8BEN—Certificate of Foreign Status of Beneficial Owner for United States Tax Withholding and Reporting (Individual), Form W-8BEN-E—Certificate of Status of Beneficial Owner for United States Tax Withholding and Reporting (Entities), Form W-8ECI—Certificate of Foreign Person's Claim That Income Is Effectively Connected With the Conduct of a Trade or Business in the United States, Form W-8EXP—Certificate of Foreign Government or Other Foreign Organization for United States Tax Withholding and Reporting, Form W-8IMY—Certificate of Foreign Intermediary, Foreign Flow-Through Entity, or Certain U.S. Branches for United States Tax Withholding and Reporting.

OMB Number: 1545-1621.

Type of Review: Revision of a currently approved collection.

Abstract: Form W-8BEN is used for certain types of income to establish that the person is a foreign person, is the beneficial owner of the income for which Form W-8BEN is being provided and, if applicable, to claim a reduced rate of, or exemption from, withholding as a resident of a foreign country with which the United States has an income tax treaty. Form W-8ECI is used to establish that the person is a foreign person and the beneficial owner of the income for which Form W-8ECI is being provided, and to claim that the income is effectively connected with the conduct of a trade or business within the United States. Form W-8EXP is used by a foreign government, international organization, foreign central bank of issue, foreign tax-exempt organization, or foreign private foundation. The form is used by such persons to establish foreign status, to claim that the person is the beneficial owner of the income for which Form W-8EXP is given and, if applicable, to claim a reduced rate of, or exemption from, withholding. In addition, a withholding qualified holder under IRC section 1445 may use a Form W-8EXP to establish that it is treated as a U.S. person and claim an exemption to withholding pursuant to IRC section 897(l) (relating to qualified foreign pension funds). Form W-8IMY is provided to a withholding agent or payer by a foreign intermediary, foreign partnership, and certain U.S. branches to make representations regarding the status of beneficial owners or to transmit appropriate documentation to the withholding agent. Treasury Regulations section 1.1441-1(e)(4)(iv) provides that a withholding agent may establish a system for a beneficial owner to electronically furnish a Form W-8 or an acceptable substitute Form W-8.

Form Number: W-8BEN, W-8BEN-E, W-8ECI, W-8EXP, and W-8IMY.

Affected Public: Businesses or other for-profit organizations; Individuals or Households; Not-for-profit institutions.

Frequency of Response: Annually.

Estimated Number of Respondents: 3,390,700.

Estimated Total Number of Annual Responses: 3,390,700.

Estimated Time per Respondent: 7.42 hours to 29.85 hours.

Estimated Total Annual Burden Hours: 30,562,902.

2. Title: Tax-Exempt Organization Complaint (Referral).

OMB Number: 1545-New.

Type of Review: Existing IC in use that does not contain an OMB control number.

Abstract: This request covers the taxpayer burden with Form 13909, Tax-Exempt Organization Complaint (Referral). Form 13909 is used by individuals to submit a complaint about tax-exempt organizations. The information provided on this form will help the Internal Revenue Service (IRS) determine if there has been a violation of federal tax law.

Document Number: 13909.

Current Actions: Request for OMB approval of an existing Information Collection (IC) tool in use without a proper OMB approval number.

Affected Public: Not-for-profit institutions, and Federal, State, local or tribal governments.

Estimated Number of Respondents: 8,000.

Estimated Total Number of Annual Responses: 8,000.

Estimated Time per Respondent: 48 min.

Estimated Total Annual Burden Hours: 6,400.

3. Title: Election to Treat a Qualified Revocable Trust as Party of an Estate.

OMB Number: 1545-1881.

Form Number: 8855.

Abstract: Form 8855 is used to make a section 645 election that allows a qualified revocable trust to be treated and taxed (for income tax purposes) as part of its related estate during the election period.

Current Actions: There are no changes to burden.

Type of Review: Extension of a currently approved collection.

Affected Public: Business or other for-profit organizations.

Estimated Number of Respondents: 5,000.

Estimated Total Number of Annual Responses: 5,000.

Estimated Time per Response: 5 hours, 38 minutes.

Estimated Total Annual Burden Hours: 28,200 hours.

(Authority: 44 U.S.C. 3501 et seq.)

Melody Braswell,
Treasury PRA Clearance Officer.

[FR Doc. 2023-20287 Filed 9-19-23; 8:45 am]

BILLING CODE 4830-01-P